ENVIRONMENTAL PROTECTION AGENCY

[FRL-8282-7; Docket ID No. EPA-HQ-ORD-2007-0108]

External Review Draft, Evaluating Ecological Risk to Invertebrate Receptors From PAHs in Sediments at Hazardous Waste Sites

AGENCY: Environmental Protection Agency (EPA).

ACTION: Notice of public comment period.

SUMMARY: EPA is announcing a 30-day public comment period for the draft document titled, “Evaluating Ecological Risk to Invertebrate Receptors from PAHs in Sediments at Hazardous Waste Sites” (EPA/600/R-06/162). The document was prepared by the Ecological Risk Assessment Support Center managed by the National Center for Environmental Assessment within EPA's Office of Research and Development.

EPA is releasing this draft document solely for the purpose of pre-dissemination peer review under applicable information quality guidelines. This document has not been formally disseminated by EPA. It does not represent and should not be construed to represent any Agency policy or determination. EPA will consider any public comments submitted in accordance with this notice when revising the document.

DATES: The 30-day public comment period begins March 2, 2007, and ends April 2, 2007. Technical comments should be in writing and must be received by EPA by April 2, 2007.

ADDRESSES: The draft document, “Evaluating Ecological Risk to Invertebrate Receptors from PAHs in Sediments at Hazardous Waste Sites,” is available primarily via the Internet on the National Center for Environmental Assessment's home page under the “Recent Additions” and “Publications” menus at http://www.epa.gov/ncea. A limited number of paper copies are available from the Technical Information Staff, NCEA-Cin; telephone: 513-569-7257; facsimile: 513-569-7916. If you are requesting a paper copy, please provide your name, your mailing address, and the document title, “Evaluating Ecological Risk to Invertebrate Receptors from PAHs in Sediments at Hazardous Waste Sites.”

Comments may be submitted electronically via www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Michael Kravitz, NCEA; telephone: 513-569-7740; facsimile: 513-487-2540; or email: kravitz.michael@epa.gov.

SUPPLEMENTARY INFORMATION:

I. Information About the Project/Document

U.S. EPA's Ecological Risk Assessment Support Center (ERASC) is a knowledge center that provides technical information and addresses scientific questions on topics relevant to ecological risk assessment at hazardous waste sites for EPA's Office of Solid Waste and Emergency Response (OSWER) and Regional Superfund/Resource Conservation and Recovery Act (RCRA) staff. Topics are submitted to ERASC by users in EPA program offices and regions. The ERASC is managed by the Office of Research and Development's (ORD's) National Center for Environmental Assessment and is located in Cincinnati, Ohio.

The ERASC recently completed an external review draft document titled, “Evaluating Ecological Risk to Invertebrate Receptors from PAHs in Sediments at Hazardous Waste Sites.” It provides an overview of an approach for assessing risk to invertebrate receptors resulting from exposure to PAHs in contaminated sediments. The approach, based on procedures described in the EPA document, Procedures for the Derivation of Equilibrium Partitioning Sediment Benchmarks (ESBs) for the Protection of Benthic Organisms: PAH Mixtures (EPA/600/R-02/013), involves the use of equilibrium partitioning techniques to determine exposure/bioavailability and narcosis theory to estimate sublethal toxicity of PAHs. Examples of how to use this approach with analytical data resulting from the analysis of contaminated sediments are provided. The approach offers risk assessors a useful tool for assessing the risk of PAHs to benthic invertebrates at hazardous waste sites, particularly when used with other contaminated sediment assessment methods. The External Review Draft only addresses risks to benthic invertebrates because reaching a consensus scientific position on vertebrate risk issues is a longer-term prospect.

II. How To Submit Technical Comments to the Docket at www.regulations.gov

Submit your comments, identified by Docket ID No. EPA-HQ-ORD-2007-0108 by one of the following methods:

• www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center Public Reading Room is open from 8:30 a.m. to 4:30 p.m., Monday through Friday, excluding legal holidays. The telephone number for the Public Reading Room is 202-566-1744. Such deliveries are only accepted during the Docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2007-0108. It is EPA's policy to include all comments it receives in the public docket without change and to make the comments available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically at www.regulations.gov or in hard copy at the OEI Docket in the EPA Headquarters Docket Center.

Dated: February 22, 2007.
Peter W. Preuss,
Director, National Center for Environmental Assessment.

[FR Doc. E7-3685 Filed 3-1-07; 8:45 am]

BILLING CODE 6560-50-P